CIVIL RIGHTS COMMISSION

Notice of Public Meeting of the Maine Advisory Committee; Cancellation

AGENCY: Commission on Civil Rights.

ACTION: Notice; cancellation of meeting.

SUMMARY: The Commission on Civil Rights published a notice in the Federal Register concerning a meeting of the Maine Advisory Committee. The meeting scheduled for Thursday, March 18, 2021 at 12 p.m. (ET) is cancelled. The notice is in the Federal Register of Friday, February 26, 2021, in FR Doc. 2021-03973, on page 11720.

FOR FURTHER INFORMATION CONTACT: Barbara Delaviez, (202) 618-4158, bdelaviez@usccr.gov.

Dated: March 12, 2021.
David Mussatt,
Supervisory Chief, Regional Programs Unit.

[FR Doc. 2021-05564 Filed 3-17-21; 8:45 am]

BILLING CODE P